FEDERAL TRADE COMMISSION

SES Performance Review Board

AGENCY: Federal Trade Commission.

ACTION: Notice.

SUMMARY: Notice is hereby given of the appointment of members to the FTC Performance Review Board.

FOR FURTHER INFORMATION CONTACT: Janet Silva, Director of Human Resources, 600 Pennsylvania Avenue NW., Washington, DC 20580, (202) 326-2022.

SUPPLEMENTARY INFORMATION: Publication of the Performance Review Board (PRB) membership is required by 5 U.S.C. 4314(c)(4). The PRB reviews and evaluates the initial appraisal of a senior executive's performance by the supervisor, and makes recommendations regarding performance ratings to the Chairman.

The following individuals have been designated to serve on the Commission's Performance Review Board:

Rosemarie A. Straight, Executive Director, Chair.

Howard J. Beales, Director, Bureau of Consumer Protection.

David T. Scheffman, Director, Bureau of Economics.

Christine C. Wilson, Chief of Staff.

Joseph J. Simons, Director, Bureau of Competition.

William E. Kovacic, General Counsel.

By direction of the Commission.
Donald S. Clark,
Secretary.

[FR Doc. 02-24419 Filed 9-25-02; 8:45 am]

BILLING CODE 6750-01-M